ENVIRONMENTAL PROTECTION AGENCY

40 CFR PART 52

[EPA-R05-OAR-2020-0559; FRL-10022-19-Region 5]

Air Plan Approval; Ohio; Ohio NSR Permit Timing

AGENCY: Environmental Protection Agency (EPA).

ACTION: Proposed rule; re-opening of public comment period.

SUMMARY: The Environmental Protection Agency (EPA) is re-opening the comment period for a proposed rule published February 11, 2021. On February 11, 2021, EPA proposed to approve, under the Clean Air Act, an Ohio rule that would allow for the extension of an installation permit which is the subject of an appeal by a party other than the owner or operator of the air contaminant source. In response to requests from members of the public, EPA is re-opening the comment period for an additional 30 days.

DATES: Comments must be received on or before April 29, 2021.

ADDRESSES: Submit comments, identified by Docket ID No. EPA-R05-OAR-2020-0559, to: Genevieve Damico, Chief, Air Permits Section, Air Programs Branch (AR-18J), U.S. Environmental Protection Agency, Region 5, 77 West Jackson Boulevard, Chicago, Illinois 60604, damico.genevieve@epa.gov. Additional instructions regarding how to submit a comment can be found in the notice of proposed rulemaking published February 11, 2021 (86 FR 9039).

FOR FURTHER INFORMATION CONTACT: Mari González, Environmental Engineer, Air Permits Section, Air Programs Branch (AR-18J), Environmental Protection Agency, Region 5, 77 West Jackson Boulevard, Chicago, Illinois 60604, (312) 886-6175, Gonzalez.Mari@epa.gov.

Dated: March 24, 2021.
Cheryl Newton,
Acting Regional Administrator, Region 5.

[FR Doc. 2021-06449 Filed 3-29-21; 8:45 am]

BILLING CODE 6560-50-P